DEPARTMENT OF HOMELAND SECURITY

[Docket No. DHS-2008-0049]

Science and Technology Directorate; Submission for Review; Information Collection Request for the DHS S&T Bio-Knowledge Center Expert Database

AGENCY: Science and Technology Directorate, DHS.

ACTION: 30-day Notice and request for comment.

SUMMARY: The Department of Homeland Security (DHS) invites the general public to comment on a new data collection form for the Bio-Knowledge Center Expert Database: Subject Matter Expert (SME) Registration Form (DHS Form 10043). The Bio-Knowledge Center Database will collect SME information in order to understand who can provide scientific expertise for peer review of scientific programs, and who can provide expertise in the event of a perceived biothreat. In addition, the directory will make it easier to identify scientific specialty areas for which there is a shortage of SMEs with appropriate security clearances. SME contact information, scientific expertise, and level of education will be collected electronically through a Web portal currently being developed by DHS S&T. The SME information will be shared with U.S. Government program managers and other members of the biodefense community who have a legitimate need to identify biological SMEs. Cleared SMEs are necessary to accomplish scientific reviews, attend topical meetings, and to consult in the event of a perceived biothreat. This notice and request for comments is required by the Paperwork Reduction Act of 1995 (Pub. L. 104-13, 44 U.S.C. chapter 35). Previously, a 60-day notice was published in the Federal Register on March 14, 2008.

DATES: Comments are encouraged and will be accepted until June 23, 2008.

Comments: Interested persons are invited to submit written comments on the proposed information collection to the Office of Information and Regulatory Affairs, Office of Management and Budget. Comments should be addressed to Desk Officer for the Department of Homeland Security, Science & Technology Directorate, and sent via electronic mail to oira_submission@omb.eop.gov or faxed to (202) 395-6974. Please include docket number [DHS-2008-00XX] in the subject line of the message.

FOR FURTHER INFORMATION CONTACT: Michael Bowerbank (202) 254-6895 (this is not a toll free number).

SUPPLEMENTARY INFORMATION: The National Counterproliferation Center has identified the need for a comprehensive and readily available list of biological agent SMEs that includes security clearance status. In particular, there is no database that contains security clearance information, biological domain expertise, and contact information. Therefore, the SME Directory is being coordinated at the national level to address this need. If a similar database is identified in the future, we will work with the identified collection agent to ensure a cooperative partnership is developed.

The SME Directory will use electronic (Web-based) technology to collect, maintain, and transmit SME information. The SMEs will have access to their own data and will be able to edit and update the information electronically.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the data collection on those who respond, including the use of appropriate automated, electronic, mechanical, or other technological collection techniques or other forms of information technology, e.g., permitting electronic submissions of responses.

Overview of This Information Collection

(1) Type of Information Collection: New information collection.

(2) Title of the Form/Collection: Bio-Knowledge Center Expert Database.

Agency Form Number, if any, and the applicable component of the Department of Homeland Security sponsoring the collection: DHS Form 10043 (2/08), DHS Science & Technology Directorate.

(3) Affected public who will be asked or required to respond, as well as a brief abstract: Individuals; the data will be gathered from individual SMEs and stored in a central database, accessible through a Web-based portal. The SME information will be shared with U.S. Government program managers and other members of the biodefense community who have a legitimate need to identify biological SMEs.

(4) An estimate of the total number of respondents and the amount of time estimated for an average respondent to respond:

a. Estimate of the total number of respondents: 4000

b. An estimate of the time for an average respondent to respond: .25 burden hours.

Dated: May 14, 2008.
Kenneth D. Rogers,
Chief Information Officer, Science and Technology Directorate.

[FR Doc. E8-11454 Filed 5-21-08; 8:45 am]

BILLING CODE 4410-10-P